DEPARTMENT OF ENERGY

Federal Energy Regulatory Commission

[Docket No. RP97-14-015]

Midwestern Gas Transmission Company; Notice of Negotiated Rates

May 6, 2003.

Take notice that on May 1, 2003, Midwestern Gas Transmission Company (Midwestern) tendered for filing to become part of its FERC Gas Tariff, Third Revised Volume No. 1, Seventh Revised Sheet No. 273, to become effective May 1, 2003.

Midwestern states that it has entered into two Negotiated Rate Agreements with Northern Illinois Gas Company, d/b/a Nicor Gas (Nicor): Contract No. FA0167 and FA0168. Midwestern explains that these contracts provide the following information: (1) The exact legal name of the shipper; (2) the total charges (the negotiated rate and all applicable charges); (3) the receipt and delivery points; (4) the volume of gas to be transported; and (5) the applicable rate schedule for the service. In addition, Midwestern is filing Sheet No. 273 to reflect that the Negotiated Rates contain non-conforming terms. Midwestern states that Sheet No. 273 also contains a minor housekeeping change, and that contract numbers have been added to identify each non-conforming agreement that is listed on Sheet No. 273.

Midwestern states that copies of this filing have been sent to all of Midwestern's contracted shippers and interested state regulatory commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 13, 2003.

Magalie R. Salas
Secretary.

[FR Doc. 03-11806 Filed 5-12-03; 8:45 am]

BILLING CODE 6717-01-P